NATIONAL SCIENCE FOUNDATION

Advisory Committee for Geosciences, Notice of Meeting

In accordance with the Federal Advisory Committee Act (Pub. L. 92-463, as amended), the National Science Foundation announces the following meeting:

Name: Advisory Committee for Geosciences (1755).

Dates: October 4-6, 2006.

Time: 9 a.m.-5:30 p.m. Wednesday and Thursday, October 4 and 5, 2006. 9 a.m.-12 noon. Friday, October 6, 2006.

Place: National Science Foundation, 4201 Wilson Boulevard, Room 375, Arlington, VA 22230.

Type of Meeting: Open.

Contact Person: Dr. Thomas Spence, Directorate for Geosciences, National Science Foundation, Suite 705, 4201 Wilson Boulevard, Arlington, Virginia 22230, Phone 703-292-8500.

Minutes: May be obtained from the contact person listed above.

Purpose of Meeting: To provide advice, recommendations, and oversight concerning support for research, education, and human resources development in the geosciences.

Agenda:

Day 1: Directorate Activities; Subcommittee Meetings.

Day 2: Subcommittee Meeting and Reports; Directorate Activities.

Day 3: Plans and Activities.

Dated: September 5, 2006.
Susanne Bolton,
Committee Management Officer.

[FR Doc. 06-7567 Filed 9-8-06; 8:45 am]

BILLING CODE 7555-02-M